DEPARTMENT OF HOUSING AND URBAN DEVELOPMENT

[Docket No. FR-4950-FA-34]

Announcement of Funding Awards for the Rural Housing and Economic Development Program; Fiscal Year 2005

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Rural Housing and Economic Development Program. This announcement contains the names of the awardees and the amounts of the awards made available by HUD.

FOR FURTHER INFORMATION CONTACT: Jackie L. Williams, Ph.D., Director, Office of Rural Housing and Economic Development, Office of Community Planning and Development, 451 Seventh Street, SW., Room 7137, Washington, DC 20410-7000; telephone (202) 708-2290 (this is not a toll-free number). Hearing- and speech-impaired persons may access this number via TTY by calling the Federal Relay Service toll-free at 1-800-877-8339. For general information on this and other HUD programs, call Community Connections at (800) 998-9999 or visit the HUD Web site at http://www.hud.gov.

SUPPLEMENTARY INFORMATION: The Rural Housing and Economic Development program was authorized by the Department of Veterans Affairs, Housing and Urban Development and Independent Agencies Appropriations Act of 1999. The competition was announced in the NOFA published March 21, 2005 (70 FR 14012). Applications were rated and selected for funding on the basis of selection criteria contained in that notice.

The Catalog of Federal Domestic Assistance number for this program is 14.250.

The Rural Housing and Economic Development Program is designed to build capacity at the State and local level for rural housing and economic development and to support innovative housing and economic development activities in rural areas. Eligible applicants are local rural nonprofit organizations, community development corporations, federally recognized Indian tribes, State housing finance agencies, and state community and/or economic development agencies. The funds made available under this program were awarded competitively, through a selection process conducted by HUD.

For the Fiscal Year 2005 competition, a total of $23.7 million was awarded to 103 projects nationwide.

In accordance with section 102(a)(4)(C) of the Department of Housing and Urban Development Reform Act of 1989 (103 Stat. 1987. 42 U.S.C. 3545), the Department is publishing the grantees and amounts of the awards in Appendix A to this document.

Dated: March 14, 2006.
Pamela H. Patenaude,
Assistant Secretary for Community Planning and Development.

Appendix A—Fiscal Year 2005 Funding Awards for Rural Housing and Economic Development Program
Recipient | State | Amount
Chilkoot Indian Association | AK | $150,000.00
The Hale Empowerment and Revitalization Organization (HERO) | AL | $149,963.13
Health Services Center, Inc | AL | $150,000.00
Arkansas Land and Farm Development Corporation | AR | $134,321.42
Lee County Community Development Corporation Inc | AR | $146,000.00
Arkansas Development Finance Authority | AR | $400,000.00
Four Corners Enterprise Community, Inc | AZ | $150,000.00
San Carlos Housing Authority | AZ | $140,973.00
Moenkopi Developers Corporation, Inc | AZ | $146,936.00
White Mountain Apache Housing Authority | AZ | $400,000.00
International Sonoran Desert Alliance | AZ | $400,000.00
Nogales Community Development Corp | AZ | $400,000.00
Comite de Bien Estar, Inc | AZ | $400,000.00
Big Pine Indian Reservation | CA | $129,453.00
Timbisha Shoshone Tribe | CA | $149,112.00
California Coalition for Rural Housing | CA | $150,000.00
California Human Development Corp | CA | $150,000.00
Walking Shield American Indian Society | CA | $400,000.00
Bear River Band of Rohnerville Rancheria | CA | $400,000.00
Los Caminos Antiguos Scenic and Historic Byways Association, Inc. | CO | $150,000.00
Central Florida Community Development Corporation | FL | $150,000.00
Community Development Corporation of Southwest Georgia | GA | $150,000.00
Sapelo Island Cultural and Revitalization Society, Inc | GA | $149,875.00
Southwest Georgia United Empowerment Zone, Inc. | GA | $400,000.00
Heritage Ranch, Inc | HI | $400,000.00
Bethany Village | IL | $100,000.00
Hazard-Perry County Housing Development Alliance, Inc. | KY | $150,000.00
McCreary County Community Housing Development | KY | $150,000.00
Homeless and Housing Coalition of Kentucky | KY | $150,000.00
Kentucky Highlands Investment Corporation | KY | $400,000.00
People's Self-Help Housing, Inc | KY | $400,000.00
Kentucky Housing Corporation | KY | $400,000.00
Macon Ridge Community Development | LA | $300,000.00
Microenterprise Council of Maryland (MCM) | MD | $150,000.00
Maine Development Foundation | ME | $150,000.00
Four Directions Development Corp. | ME | $398,824.00
Northern Homes Community Development Corporation | MI | $150,000.00
Sault Ste. Marie Tribe of Chippewa Indians | MI | $150,000.00
Huron Potawatomi, Inc | MI | $149,997.00
Keweenaw Bay Indian Community | MI | $400,000.00
Midwest Minnesota Community Development Corp | MN | $362,500.00
Top of the Ozarks Resource Conservation & Development Inc | MO | $360,898.00
Pinebelt Community Services | MS | $150,000.00
Mississippi Action for Commuity Education, Inc. | MS | $400,000.00
County Housing Education and Community Services, Inc | MS | $399,098.00
Gateway Economic Development District | MT | $150,000.00
Lake County Community Development Corp | MT | $150,000.00
Browning Community Development Corporation | MT | $150,000.00
Native American CDFI Coalition | MT | $150,000.00
Hays Community Economic Development Corp. | MT | $150,000.00
Blackfeet Housing | MT | $400,000.00
The Affordable Housing Group of North Carolina, Inc | NC | $149,382.00
Design Corps | NC | $150,000.00
Northwestern Housing Enterprises, Inc | NC | $150,000.00
Olive Hill Community Economic Development Corp. Inc | NC | $81,000.00
Hollister R.E.A.C.H., Inc | NC | $149,560.00
Nebraska Housing Developers Association | NE | $149,996.00
Ho-Chunk Community Development Corporation | NE | $147,210.00
New Mexico Rural Development Response Council | NM | $150,000.00
Cuatro Puertas | NM | $149,858.00
Dona Ana County Colonias Development Council | NM | $150,000.00
Mexicano Land Education and Conservation Trust | NM | $139,000.00
Southeast NM Community Action Corporation | NM | $150,000.00
Pueblo of Picuris | NM | $400,000.00
New Mexico Mortgage Finance Authority | NM | $400,000.00
Pyramid Lake Paiute Tribe | NV | $100,000.00
Cooperative Ext. Assoc. of Albany County | NY | $200,000.00
Ohio Valley Regional Development Commission | OH | $105,000.00
Sojourners Care Network | OH | $150,000.00
Delaware Nation | OK | $150,000.00
Little Dixie Community Action Agency, Inc | OK | $150,000.00
Oregon Corporation for Affordable Housing | OR | $100,000.00
Confederated Tribes of Coos, Lower Umpqua & Siuslaw Indians | OR | $149,984.00
Umatilla Reservation Housing Authority | OR | $400,000.00
Central Pennsylvania Community Action, Inc | PA | $150,000.00
Southwestern Pennsylvania Legal Services, Inc | PA | $150,000.00
Mennonite Economic Development Associates | PA | $150,000.00
Corporación de Desarrollo Económico de Ceiba, CD | PR | $400,000.00
Community Development Corporation of Marlboro County | SC | $205,000.00
Planning & Development District III | SD | $150,000.00
Northeast South Dakota Community Action Program (NESDCAP) | SD | $150,000.00
Four Bands Community Fund Inc | SD | $380,000.00
Volunteer Housing Development Corp | TN | $119,758.00
Volunteer Housing Management Corp | TN | $100,000.00
Clinch-Powell Resource Conservation and Development Area | TN | $148,101.56
Eastern Eight Community Development Corp | TN | $150,000.00
Carey Counseling Center, Inc | TN | $380,988.00
West Tennessee Legal Services | TN | $400,000.00
Buffalo Valley, Inc. | TN | $400,000.00
Walker Montgomery Community Development Corp | TX | $150,000.00
El Paso Community Action Program, Project Bravo, Inc | TX | $149,212.00
Southwest Community Investment Corporation | TX | $150,000.00
Proyecto Azteca | TX | $400,000.00
El Paso Empowerment Zone Corp | TX | $400,000.00
Texas RioGrande Legal Aid, Inc | TX | $400,000.00
ACCION Texas | TX | $400,000.00
Azteca Community Loan Fund | TX | $400,000.00
Northwestern Band of Shoshone Nation | UT | $150,000.00
Aneth Chapter Community Development Corporation | UT | $400,000.00
Lower Elwha Housing Authority | WA | $150,000.00
Neighborhood Housing Services of Richland County | WI | $150,000.00
Woodlands Development Group | WV | $400,000.00
Wind River Development Fund | WY | $155,000.00
Total |  | $23,677,000.11

[FR Doc. E6-4347 Filed 3-24-06; 8:45 am]

BILLING CODE 4210-67-P